DEPARTMENT OF COMMERCE

National Institute of Standards and Technology

[Notice 1]

National Fire Codes: Request for Comments on NFPA Technical Committee Reports

AGENCY: National Institute of Standards and Technology, Commerce.

ACTION: Notice.

SUMMARY: The National Fire Protection Association (NFPA) revises existing standards and adopts new standards twice a year. At both its November Meeting and its May Meeting, the NFPA acts on recommendations made by its technical committees.

The purpose of this notice is to request comments on the technical reports that will be presented at NFPA's 2002 May Meeting. The publication of this notice by the National Institute of Standards and Technology (NIST) on behalf of NFPA is being undertaken as a public service; NIST does not necessarily endorse, approve, or recommend any of the standards referenced in the notice.

DATES: The Building Code is published in a separate “Report on Proposals” and will be available on July 27, 2001. Comments received on or before October 5, 2001, will be considered by the Building Code Project before NFPA takes final action on the proposals.

Fifty-four reports are being published in the “2002 May Meeting Report on Proposals” and will be available on July 27, 2001. Comments received on or before October 5, 2001 will be considered by the respective NFPA Committees before final action is taken on the proposal.

ADDRESSES: The “2002 May Meeting Report on Proposals” and the “2002 Building Code Report on Proposals” are available and downloadable from NFPA's Website—www.nfpa.org or by requesting a copy from the NFPA, Fulfillment Center, 11 Tracy Drive, Avon, MA 02322. Comments on the report should be submitted to Casey C. Grant, Secretary, Standards Council, NFPA, 1 Batterymarch Park, P.O. Box 9101, Quincy, Massachusetts 02269-9101.

FOR FURTHER INFORMATION CONTACT: Casey C. Grant, Secretary, Standards Council, NFPA, 1 Batterymarch Park, Quincy, MA 02269-9101, (617) 770-3000.

SUPPLEMENTARY INFORMATION:

Background

The National Fire Protection Association (NFPA) develops building, fire, and electrical safety codes and standards. Federal agencies frequently use these codes and standards as the basis for developing Federal regulations concerning fire safety. Often, the Office of the Federal Register approve the incorporation by reference of these standards under 5 U.S.C. 552(a) and 1 CFR Part 51.

Revisions of existing standards and adoption of new standards are reported by the technical committees at the NFPA's November Meeting or the May Meeting each year. The NFPA invites public comment on its Reports on Proposals.

Request for Comments

Interested persons may participate in these revisions by submitting written data, views, or arguments to Casey C. Grant, Secretary, Standards Council, NFPA, 1 Batterymarch Park, Quincy, Massachusetts 02269-9101. Commenters may use the forms provided for comments in the Reports on Proposals. Each person submitting a comment should include his or her name and address, identify the notice, and give reasons for any recommendations. Comments received on or before October 5, 2001, for the “2002 May Meeting Report on Proposals” and the “2002 Building Code Report on Proposals” will be considered by the NFPA before final action is taken on the proposals.

Copies of all written comments received and the disposition of those comments by the NFPA committees will be published as the 2002 May Meeting Report on Comments and the 2002 Building Code Report on Proposals by March 29, 2002, prior to the May Meeting.

A copy of the Report on Comments will be sent automatically to each commentator. Action on the reports of the Technical Committees (adoption or rejection) will be taken by NFPA members at the May Meeting, May 19-23, 2002 in Minneapolis, Minnesota.

Karen Brown,
Acting Director.

2002 May Meeting; Report on Proposals
[P=Partial revision; W=withdrawal; R=Reconfirmation; N=New; C=Complete Revision]
Doc. No. | Title | Action
NFPA 10 | Standard for Portable Fire Extinguishers | P
NFPA 11 | Standard for Low-Expansion Foam | P
NFPA 11A | Standard for Medium- and High-Expansion Foam Systems | W
NFPA 13 | Standard for the Installation of Sprinkler Systems | P
NFPA 13D | Standard for the Installation of Sprinkler Systems in One- and Two-Family Dwellings and Manufactured Homes | P
NFPA 13R | Standard for the Installation of Sprinkler Systems in Residential Occupancies up to and including Four Stories in Height | P
NFPA 17 | Standard for Dry Chemical Extinguishing Systems | P
NFPA 17A | Standard for Wet Chemical Extinguishing Systems | P
NFPA 24 | Standard for the Installation of Private Fire Service Mains and Their Appurtenances | C
NFPA 30B | Code for the Manufacture and Storage of Aerosol Products | P
NFPA 42 | Code for the Storage of Pyroxylin Plastic | R
NFPA 52 | Compressed Natural Gas (CNG) Vehicular Fuel Systems Code | P
NFPA 54/ANSI Z223.1 | National Fuel Gas Code | P
NFPA 57 | Liquefied Natural Gas (LNG) Vehicular Fuel Systems Code | P
NFPA 61 | Standard for the Prevention of Fires and Dust Explosions in Agricultural and Food Products Facilities | C
NFPA 69 | Standard on Explosion Prevention Systems | C
NFPA 70B | Recommended Practice for Electrical Equipment Maintenance | P
NFPA 72 | National Fire Alarm Code | P
NFPA 79 | Electrical Standard for Industrial Machinery | C
NFPA 88A | Standard for Parking Structures | P
NFPA 90A | Standard for the Installation of Air-Conditioning and Ventilating Systems | P
NFPA 90B | Standard for the Installation of Warm Air Heating and Air-Conditioning Systems | P
NFPA 101B | Code for Means of Egress for Buildings and Structures | P
NFPA 170 | Standard for Fire Safety Symbols | P
NFPA 232 | Standard for the Protection of Records | P
NFPA 262 | Standard Method of Test for Flame Travel and Smoke of Wires and Cables for Use in Air-Handling Spaces | C
NFPA 265 | Standard Methods of Fire Tests for Evaluating Room Fire Growth Contribution of Textile Wall Coverings | C
NFPA 291 | Recommended Practice for Fire Flow Testing and Marking of Hydrants | P
NFPA 299 | Standard for Protection of Life and Property from Wildfire | C
NFPA 318 | Standard for the Protection of Clean rooms | P
NFPA 395 | Standard for the Storage of Flammable and Combustible Liquids at Farms and Isolated Sites | P
NFPA 402 | Guide for Aircraft Rescue and Fire Fighting Operations | P
NFPA 415 | Standard on Airport Terminal Buildings, Fueling Ramp Drainage, and Loading Walkways | P
NFPA 424 | Guide for Airport/Community Emergency Planning | P
NFPA 481 | Standard for the Protection, Processing, Handling, and Storage of Titanium | W
NFPA 482 | Standard for the Production, Processing, Handling and Storage of Zirconium | W
NFPA 484 | Standard for Combustible Metals, Metal Powders, and Metal Dusts | C
NFPA 485 | Standard for the Storage, Handling, Processing, and Use of Lithium Metal | W
NFPA 490 | Code for the Storage of Ammonium Nitrate | P
NFPA 505 | Fire Safety Standard for Powered Industrial Trucks Including Type Designations, Areas of Use, Conversions, Maintenance, and Operation | P
NFPA 550 | Guide to the Fire Safety Concepts Tree | P
NFPA 651 | Standard for the Machining and Finishing of Aluminum and the Production and Handling of Aluminum Powders | W
NFPA 664 | Standard for the Prevention of Fires and Explosions in Wood Processing and Woodworking Facilities | C
NFPA 1001 | Standard for Fire Fighter Professional Qualifications | P
NFPA 1122 | Code for Model Rocketry | C
NFPA 1124 | Code for the Manufacture, Transportation, and Storage of Fireworks and Pyrotechnic Articles | C
NFPA 1127 | Code for High Power Rocketry | C
NFPA 1221 | Standard for the Installation, Maintenance, and Use of Emergency Services Communications Systems | C
NFPA 1521 | Standard for Fire Department Safety Officer | R
NFPA 1911 | Standard for Service Tests of Fire Pump Systems on Fire Apparatus | C
NFPA 1914 | Standard for Testing Fire Department Aerial Devices | C
*NFPA 5000 | NFPA Building Code | N
* | Appears in the A2002 Building Code Report on Proposals

[FR Doc. 01-17298 Filed 7-10-01; 8:45 am]

BILLING CODE 3510-13-M